ENVIRONMENTAL PROTECTION AGENCY

[FRL-9311-5]

Gulf of Mexico Citizen Advisory Committee; Request for Nominations to the Gulf of Mexico Citizen Advisory Committee (GMCAC)

AGENCY: Environmental Protection Agency (EPA).

ACTION: Notice.

SUMMARY: The U.S. Environmental Protection Agency (EPA), invites nominations from a diverse range of qualified candidates to be considered for appointment to the Gulf of Mexico Citizen Advisory Committee (GMCAC). Vacancies are anticipated to be filled by August 30, 2011. Sources in addition to this Federal Register Notice may also be utilized in soliciting nominees.

Background: The GMCAC is a Federal advisory committee chartered under the Federal Advisory Committee Act (FACA), Public Law 920463 5 U.S.C. App.2. EPA is establishing the Gulf of Mexico Citizen Advisory Committee (GMCAC) to provide independent citizen advice to the EPA Administrator on a broad range of environmental issues affecting the five Gulf of Mexico Coastal States. Members serve as representatives of citizens and citizen groups. Members are appointed by the EPA Administrator for a two or three-year term with a possibility of reappointment to a second term. The GMCAC usually is expected to meet as needed, but at least quarterly, and the average workload for the members is approximately 3 to 5 hours per month. EPA may provide reimbursement for travel and other incidental expenses associated with official government business. EPA is seeking nominations of citizens from the five Gulf Coastal States of Alabama, Florida, Louisiana, Mississippi, and Texas. EPA values and welcomes diversity. In an effort to obtain nominations of diverse candidates, EPA encourages nominations of women and men of all racial and ethnic groups. Nominations will be evaluated on the basis of several criteria, including:

• The background and experiences that would help members contribute to the diversity of perspectives on the committee (e.g., geographic, economic, social, cultural, educational, and other considerations).

• Interpersonal, oral and written communications, and consensus-building skills,

• Ability to volunteer time to attend meetings, participate in teleconference meetings, attend listening sessions with the Administrator or other senior level officials, develop policy recommendations to the Administrator, and prepare reports and advice letters. Nominations should include a resume and a short biography describing how the nominee meets the above criteria and other information that may be helpful in evaluating the nomination, as well as the nominee's current business address, e-mail address, and daytime telephone number. Interested candidates may self-nominate.

To help the Agency in evaluating the effectiveness of its outreach efforts, please tell us how you learned of this opportunity.

ADDRESSES: Submit nominations to Gloria D. Car, Designated Federal Officer, U.S. Environmental Protection Agency, Gulf of Mexico Program Office, Mail Code EPA/GMPO, Building 1100, Room 232, Stennis Space Center, MS 39529. You may also e-mail nominations with subject line COMMITTEERESUME2011 to car.gloria@epa.gov.

FOR FURTHER INFORMATION CONTACT: Gloria D. Car, Designated Federal Officer, U.S. EPA, Gulf of Mexico Program Office at (228) 688-2421 or fax (228) 688-2709 or e-mail car.gloria@epa.gov.

Dated: May 19, 2011.
Gloria D. Car,
Designated Federal Officer.

[FR Doc. 2011-13104 Filed 5-25-11; 8:45 am]

BILLING CODE 6560-50-P